DEPARTMENT OF DEFENSE

Office of the Secretary

[Docket ID DOD-2010-OS-0052]

Privacy Act of 1974; Systems of Records

AGENCY: National Security Agency/Central Security Service, DoD.

ACTION: Notice to amend a system of records.

SUMMARY: The National Security Agency/Central Security Service is proposing to amend a system of records notice in its existing inventory of records systems subject to the Privacy Act of 1974, (5 U.S.C. 552a), as amended.

DATES: The changes will be effective on May 24, 2010 unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Anne Hill at (301) 688-6527.

SUPPLEMENTARY INFORMATION: The National Security Agency/Central Security Service systems of records notices subject to the Privacy Act of 1974, (5 U.S.C. 552a), as amended, have been published in the Federal Register and are available from the National Security Agency/Central Security Service, Freedom of Information Act and Privacy Act Office, 9800 Savage Road, Suite 6248, Ft. George G. Meade, MD 20755-6248.

The specific changes to the records systems being amended are set forth below followed by the notices, as amended, published in their entirety. The proposed amendments are not within the purview of subsection (r) of the Privacy Act of 1974, (5 U.S.C. 552a), as amended, which requires the submission of a new or altered system report.

Dated: April 19, 2010.
Mitchell S. Bryman,
Alternate OSD Federal Register Liaison Officer, Department of Defense.

GNSA 20

SYSTEM NAME:

NSA Police Operational Files (August 9, 2004; 69 FR 48183).

CHANGES:

* * * * *

AUTHORITY FOR MAINTENANCE OF THE SYSTEM:

Delete entry and replace with “National Security Agency Act of 1959, Public Law 86-36 (50 U.S.C. 402 note); 40 U.S.C. 1315, Law enforcement authority of Secretary of Homeland Security for protection of public property; 32 CFR Part 228, Security Protective Force; E.O. 12333, as amended, United States Intelligence Activities, DoD-D 5100.20, National Security Agency/Central Security Service; DoD-I 5200.8, Security of DoD Installations and Resources; DoD-R 5240.1, Procedures Governing the Activities of DoD Intelligence Components that Affect United States Persons; NSA/CSS Policy 5-7, Badge Identification System; NSA/CSS Policy 5-8, Use and control of firearms/Use of Force; E.O. 9397(SSN), as amended.”

* * * * *

SYSTEM MANAGER(S) AND ADDRESS:

Delete entry and replace with “Associate Director for Security & Counterintelligence, National Security Agency/Central Security Service, Ft. George G. Meade, MD 20755-6000.”

NOTIFICATION PROCEDURE:

Delete entry and replace with “Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.”

RECORD ACCESS PROCEDURES:

Delete entry and replace with “Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.”

CONTESTING RECORD PROCEDURES:

Delete entry and replace with “The NSA/CSS rules for contesting contents and appealing initial determinations are published at 32 CFR part 322 or may be obtained by written request addressed to the National Security Agency/Central Security Service, Freedom of Information Act/Privacy Act Office, 9800 Savage Road, Ft. George G. Meade, MD 20755-6000.”

* * * * *

GNSA 2

SYSTEM NAME:

NSA Police Operational Files.

SYSTEM LOCATION:

National Security Agency/Central Security Service, Ft. George G. Meade, MD 20755-6000.

CATEGORIES OF INDIVIDUALS COVERED BY THE SYSTEM:

NSA Police Officers; civilian DoD employees; military assignees; employees of other Federal agencies or military departments; contractor employees, non-appropriated fund instrumentality employees; family members of the afore-mentioned categories; owners or operators of vehicles entering or attempting to enter on or near NSA occupied areas; individuals arrested on or near NSA occupied areas; individuals suspected of posing a threat to the safety of NSA persons or property; and individuals cited for violations of NSA security regulations.

CATEGORIES OF RECORDS IN THE SYSTEM:

Name, Social Security Number (SSN), address, organization (or affiliation), dates of visit, type of badge issued, vehicle license plate number, phone number, date and place of birth, work center assigned, case number; information from Police inventory control documents (to include weapon and radio serial numbers, police officer's name, and police officer's assigned shift), Incident Reports, Security Information Reports, reports of security violations, arrest reports, CTC vehicle registration files, accident reports, suspect data file/reports, missing property reports, traffic/parking tickets, access control information, equipment inspection logs and similar documents or files.

AUTHORITY FOR MAINTENANCE OF THE SYSTEM:

National Security Agency Act of 1959, Public Law 86-36 (50 U.S.C. 402 note); 40 U.S.C. 1315, Law enforcement authority of Secretary of Homeland Security for protection of public property; 32 CFR Part 228, Security Protective Force; E.O. 12333, as amended, United States Intelligence Activities, DoD-D 5100.20, National Security Agency/Central Security Service; DoD-I 5200.8, Security of DoD Installations and Resources; DoD-R 5240.1, Procedures Governing the Activities of DoD Intelligence Components that Affect United States Persons; NSA/CSS Policy 5-7, Badge Identification System; NSA/CSS Policy 5-8, Use and control of firearms/Use of Force; E.O. 9397(SSN), as amended.

PURPOSE(S):

To maintain records relating to the operations of the NSA Police for the purpose of providing reports for and on personnel and badge information of the current tenants of NSA/CSS facilities; to create and track the status of visit requests and the issuance of visitor badges; to identify employees and visitors at the entrances of the gated facility; to track inside the NSA/CSS facility authorized NSA/CSS employee and visitor badges as they are used to pass through automated turnstile system, access office suites and other work areas; to track any unsolicited contacts with the NSA/CSS; to track the investigation and determination of any wrongdoing or criminal activities by NSA/CSS employees or facility visitors; and to compile such statistics and reports on the number of unauthorized attempts to access NSA facilities, the number of security violations and arrests, the number of visitors, and reports of a similar nature.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

To Federal agencies to facilitate security, employment, detail, liaison, or contractual determinations as required, and in furtherance of, NSA police operations.

To Federal agencies involved in the protection of intelligence sources and methods, such as in counterintelligence investigations, to facilitate such protection.

The DoD ‘Blanket Routine Uses’' published at the beginning of the NSA/CSS's compilation of record systems also apply to this record system.

POLICIES AND PRACTICES FOR STORING, RETRIEVING, ACCESSING, RETAINING, AND DISPOSING OF RECORDS IN THE SYSTEM:

STORAGE:

Paper files and electronic storage media.

RETRIEVABILITY:

By name, organization (or affiliation), dates of visit, type of badge issued, Social Security Number (SSN), vehicle license plate number, home address and phone number, date and place of birth, work center assigned, subject matter, and case number.

SAFEGUARDS:

Secured by a series of guarded pedestrian gates and checkpoints. Access to facilities is limited to security-cleared personnel and escorted visitors only. With the facilities themselves, access to paper and computer printouts are controlled by limited-access facilities and lockable containers. Access to electronic means is controlled by computer password protection.

RETENTION AND DISPOSAL:

Records are periodically reviewed for retention. Records having no evidential, informational, or historical value or not required to be permanently retained are destroyed. Visitor passes and campus access files are destroyed when 15 years old. Physical security compromise reports are destroyed 10 years from time of incident. Files relating to exercise of police functions are destroyed when three years old. Reports relating to arrests are destroyed when two years old. Routine police investigations and Guard Service Control files are destroyed when one year old. Destruction is by pulping, burning, shredding, or erasure or destruction of magnetic media.

SYSTEM MANAGER(S) AND ADDRESS:

Associate Director for Security & Counterintelligence, National Security Agency/Central Security Service, Ft. George G. Meade, MD 20755-6000.

NOTIFICATION PROCEDURE:

Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.

RECORD ACCESS PROCEDURES:

Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.

CONTESTING RECORD PROCEDURES:

The NSA/CSS rules for contesting contents and appealing initial determinations are published at 32 CFR part 322 or may be obtained by written request addressed to the National Security Agency/Central Security Service, Freedom of Information Act/Privacy Act Office, 9800 Savage Road, Ft. George G. Meade, MD 20755-6000.

RECORD SOURCE CATEGORIES:

Individuals themselves; victims, witnesses, investigators, Security Protective Force, and other Federal or State agencies and organizations.

EXEMPTIONS CLAIMED FOR THE SYSTEM:

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of such information, the individual will be provided access to the information exempt to the extent that disclosure would reveal the identity of a confidential source. Note: When claimed, this exemption allows limited protection of investigative reports maintained in a system of records used in personnel or administrative actions.

Records maintained solely for statistical research or program evaluation purposes and which are not used to make decisions on the rights, benefits, or entitlement of an individual except for census records which may be disclosed under 13 U.S.C. 8, may be exempt pursuant to 5 U.S.C. 552a(k)(4).

Investigatory material compiled solely for the purpose of determining suitability, eligibility, or qualifications for Federal civilian employment, military service, Federal contracts, or access to classified information may be exempt pursuant to 5 U.S.C. 552a(k)(5), but only to the extent that such material would reveal the identity of a confidential source. This provision allows protection of confidential sources used in background investigations, employment inquiries, and similar inquiries that are for personnel screening to determine suitability, eligibility, or qualifications.

An exemption rule for this exemption has been promulgated in accordance with requirements of 5 U.S.C. 553(b)(1), (2) and (3), (c) and (e) and published in 32 CFR part 322. For additional information contact Ms. Anne Hill, Privacy Act Officer, NSA/CSS Freedom of Information Act/Privacy Act Office, 9800 Savage Road, Suite 6248, Ft. George G. Meade, MD 20766-6248.

[FR Doc. 2010-9393 Filed 4-22-10; 8:45 am]

BILLING CODE 5001-06-P